COMMODITY FUTURES TRADING COMMISSION

17 CFR Part 30

Foreign Futures and Options Transactions

Correction

In rule document 07-1521 beginning on page 14413 in the issue of Wednesday, March 28, 2007, make the following corrections:

1. On page 14414, in the first column, in the last paragraph, in the second to last line “the” should read “and”.

2. On the same page, in the second column, in the first full paragraph, in the seventeenth line, “that solicit and accept customer orders; ” should read “who accept customer funds;”.

[FR Doc. C7-1521 Filed 4-9-07; 8:45 am]

BILLING CODE 1505-01-D